ENVIRONMENTAL PROTECTION AGENCY

[EPA-HQ-OARM-2008-0825, EPA-HQ-OARM-2008-0827, EPA-HQ-OARM-2008-0828, EPA-HQ-OARM-2008-0829; FRL-8740-2]

Agency Information Collection Activities: Proposed Collection; Comment Request; Background Checks for Contractor Employees, EPA ICR Number 2159.03, OMB Control Number 2030-0043; Drug Testing for Contract Employees, EPA ICR Number 2183.03, OMB Control Number 2030-0044; Monthly Progress Reports, EPA ICR Number 1039.12, OMB Control Number 2030-0005; and Contractor Cumulative Claim and Reconciliation, 1900-10, EPA ICR Number 0246.10, OMB Control Number 2030-0016

AGENCY: Environmental Protection Agency (EPA).

ACTION: Notice.

SUMMARY: In compliance with the Paperwork Reduction Act (PRA) (44 U.S.C. 3501 et seq.), this document announces that EPA is planning to submit a request to renew four existing approved Information Collection Requests (ICR) to the Office of Management and Budget (OMB). These ICRs are scheduled to expire as follows: EPA ICR Numbers 2159.03 and 2183.03 are scheduled to expire on December 31, 2008. EPA ICR Numbers 1039.12 and 0246.10 are scheduled to expire on April 30, 2009. Before submitting the ICR to OMB for review and approval, EPA is soliciting comments on specific aspects of the proposed information collection as described below.

DATES: Comments must be submitted on or before January 12, 2009.

ADDRESSES: Submit your comments, identified by the Docket ID numbers provided for each item in the text, by one of the following methods:

• www.regulations.gov: Follow the on-line instructions for submitting comments.

• E-mail: oei.docket@epa.gov.

• Fax: (202)-566-9744.

• Mail: EPA Docket Center, Agency Information Collection Activities: Proposed Collection;

Docket ID: EPA-HQ-OARM-2008-0828, Background Checks for Contractor Employees, EPA ICR Number 2159.03

Docket ID: EPA-HQ-OARM-2008-0829, Drug Testing for Contract Employees, EPA ICR Number 2183.03

Docket ID: EPA-HQ-OARM-2008-0825, Monthly Progress Reports, EPA ICR Number 1039.12

Docket ID: EPA-HQ-OARM-2008-0827, Contractor Cumulative Claim and Reconciliation, EPA ICR Number 0246.10

Environmental Protection Agency, Mailcode: 28221T, 1200 Pennsylvania Ave., NW., Washington, DC 20460.

• Hand Delivery: EPA Docket Center (EPA/DC), EPA West, Room 3334, 1301 Constitution Ave., NW., Washington, DC. Such deliveries are only accepted during the Docket's normal hours of operation, and special arrangements should be made for deliveries of boxed information.

Instructions: Direct your comments identified by the Docket ID numbers provided for each item in the text. EPA's policy is that all comments received will be included in the public docket without change and may be made available online at www.regulations.gov, including any personal information provided, unless the comment includes information claimed to be Confidential Business Information (CBI) or other information whose disclosure is restricted by statute. Do not submit information that you consider to be CBI or otherwise protected through www.regulations.gov or e-mail. The www.regulations.gov Web site is an “anonymous access” system, which means EPA will not know your identity or contact information unless you provide it in the body of your comment. If you send an e-mail comment directly to EPA without going through www.regulations.gov your e-mail address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses. For additional information about EPA's public docket visit the EPA Docket Center homepage at http://www.epa.gov/epahome/dockets.htm.

FOR FURTHER INFORMATION CONTACT: Donna Blanding, Policy, Training and Oversight Division, Office of Acquisition Management, Mail Code 3802R, Environmental Protection Agency, 1200 Pennsylvania Ave., NW., Washington, DC 20460; telephone number: 202-564-1130; fax number: 202-565-2553; e-mail address: blanding.donna@epa.gov.

SUPPLEMENTARY INFORMATION:

How Can I Access the Docket and/or Submit Comments?

EPA has established a public docket for each of the ICRs identified in this document (see the Docket ID numbers for each ICR that are provided in the text), which is available for online viewing at www.regulations.gov, or in person viewing at the HQ-OARM Docket in the EPA Docket Center (EPA/DC), EPA West, Room 3334, 1301 Constitution Ave., NW., Washington, DC. The EPA/DC Public Reading Room is open from 8:30 a.m. to 4:30 p.m., Monday through Friday, excluding legal holidays. The telephone number for the Reading Room is 202-566-1744, and the telephone number for the OEI Docket is 202-566-1752.

Use www.regulations.gov to obtain a copy of the draft collection of information, submit or view public comments, access the index listing of the contents of the docket, and to access those documents in the public docket that are available electronically. Once in the system, select “search,” then key in the docket ID number identified in this document.

What Information Is EPA Particularly Interested in?

Pursuant to section 3506(c)(2)(A) of the PRA, EPA specifically solicits comments and information to enable it to:

(i) Evaluate whether the proposed collection of information is necessary for the proper performance of the functions of the Agency, including whether the information will have practical utility;

(ii) Evaluate the accuracy of the Agency's estimate of the burden of the proposed collection of information, including the validity of the methodology and assumptions used;

(iii) Enhance the quality, utility, and clarity of the information to be collected; and

(iv) Minimize the burden of the collection of information on those who are to respond, including through the use of appropriate automated electronic, mechanical, or other technological collection techniques or other forms of information technology, e.g., permitting electronic submission of responses. In particular, EPA is requesting comments from very small businesses (those that employ less than 25) on examples of specific additional efforts that EPA could make to reduce the paperwork burden for very small businesses affected by this collection.

What Should I Consider When I Prepare My Comments for EPA?

You may find the following suggestions helpful for preparing your comments:

1. Explain your views as clearly as possible and provide specific examples.

2. Describe any assumptions that you used.

3. Provide copies of any technical information and/or data you used that support your views.

4. If you estimate potential burden or costs, explain how you arrived at the estimate that you provide.

5. Offer alternative ways to improve the collection activity.

6. Make sure to submit your comments by the deadline identified under DATES.

7. To ensure proper receipt by EPA, be sure to identify the docket ID number assigned to this action in the subject line on the first page of your response. You may also provide the name, date, and Federal Register citation.

What Information Collection Activity or ICR Does This Apply to?

An Agency may not conduct or sponsor, and a person is not required to respond to, a collection of information, unless it displays a currently valid OMB control number. The OMB control numbers for EPA's regulations in title 40 of the CFR, after appearing in the Federal Register when approved, are listed in 40 CFR part 9, are displayed either by publication in the Federal Register or by other appropriate means, such as on the related collection instrument or form, if applicable. The display of OMB control numbers in certain EPA regulations is consolidated in 40 CFR part 9.

Individual ICRs

(1) Docket ID No. EPA-HQ-OARM-2008-0828; (2) Docket ID No. EPA-HQ-OARM-2008-0829

Affected entities: Entities potentially affected by these two ICRs are contractors performing work at sensitive sites or on sensitive projects, and not covered under the provisions of Homeland Security Presidential Directive-12. Specifically, all contractors involved with Emergency Response, Superfund, Information Systems, Facility Services, and Research Support that have significant security concerns, as determined by the Contracting Officer, on a case-by-case basis, will be required to provide qualified personnel that meet the background check and drug testing requirements developed by EPA.

Titles: (1) Background Checks for Contractor Employees; (2) Drug Testing for Contractor Employees.

ICR numbers: (1) Background Checks for Contractor Employees, EPA ICR Number 2159.03, OMB Control Number 2030-0043; (2) Drug Testing for Contract Employees, EPA ICR Number 2183.03, OMB Control Number 2030-0044.

ICR status: These two ICRs are being renewed and are both currently scheduled to expire on December 31, 2008.

Abstract: (1) Background checks cover citizenship or valid visa, criminal convictions, weapons offenses, felony convictions, parties prohibited from receiving federal contracts. (2) Drug tests are for the presence of marijuana, cocaine, opiates, amphetamines and phencyclidine (PCP). The Contractor shall maintain records of all background checks and drug tests.

Burden Statement: (1) The number of contractor employees expected to submit the requested information for background checks is 3,000 for the life of this ICR (3 years) or 1,000 occurrences per year. The number of annual occurrences, 1,000, multiplied by the respondent burden effort of 1 hour to collect information, equals a total of 1,000 hours per year. The total annual respondent cost for performing background checks collection requests is $179,000. This is calculated by multiplying the number of annual occurrences, 1,000, by the respondent cost of one collection, $179. (2) The number of contractor employees expected to submit the requested information for drug testing is 450 occurrences per year. The number of annual occurrences, 450, multiplied by the respondent burden effort of 1 hour to collect information, equals a total of 450 hours per year. The total annual respondent cost for this collection request is $65,250. This is calculated by multiplying the number of occurrences, 450, by the cost of one collection, $145. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Are There Changes in the Estimates From the Last Approval?

EPA estimates that the annual hourly burden for this collection will remain the same as reported in the previous information collection because there has been no change in the information being collected and approximately the same number of contracts remain active.

(3) Docket ID No. EPA-HQ-OARM-2008-0825.

Affected entities: Entities potentially affected by this action are those holding cost reimbursable, time and material, labor hour, or indefinite quantity/ indefinite delivery fixed rate contracts with EPA.

Titles: Monthly Progress Reports.

ICR numbers: EPA ICR No. 1039.12, OMB Control No. 2030-0005.

ICR status: This ICR is being renewed and is currently scheduled to expire on April 30, 2009.

Abstract: Agency contractors who have cost reimbursable, time and material, labor hour, or indefinite delivery/indefinite quantity fixed rate contracts will report the technical and financial progress of the contract on a monthly basis. EPA will use this information to monitor the contractor's progress under the contract. Responses to the information collection are mandatory for contractors, and are required for the contractors to receive monthly payments. Information submitted is protected from public release in accordance with the Agency's confidentiality regulations, 40 CFR 2.201 et seq.

Burden Statement: EPA estimates that each response will take approximately 36 hours. EPA anticipates that the total active affected contracts will remain approximately 324, times 12 submissions per year to yield about 3,888 annual collections. Each collection is estimated to cost $2,592 based on a variety of contractor personnel performing individual tasks required for information gathering and submission. The anticipated 3,888 annual submissions are estimated to cost $10,077,696 annually. Minimal operation and maintenance costs are expected for photocopying and postage.

Are There Changes in the Estimates From the Last Approval?

EPA estimates that the annual hourly burden for this collection will remain the same as reported in the previous information collection because there has been no change in the information being collected and approximately the same number of contracts remain active.

(4) Docket ID No. EPA-HQ-OARM-2008-0827.

Affected entities: Entities potentially affected by this action are those holding cost reimbursable contracts with EPA.

Titles: Contractor Cumulative Claim and Reconciliation.

ICR numbers: EPA ICR No. 0246.10, OMB Control No. 2030-0016.

ICR status: This ICR is being renewed and is currently scheduled to expire on April 30, 2009.

Abstract: At the completion of a cost reimbursement contract, contractors will report final costs incurred, including direct labor, materials, supplies, equipment, other direct charges, subcontracting, consultant fees, indirect costs, and fixed fee. Contractors will report this information on EPA Form 1900-10. EPA will use this information to reconcile the contractor's costs. Establishment of the final costs and fixed fee is necessary to close out the contract. Responses to the information collection are mandatory for those contractors completing work under a cost reimbursement contract, and are required to receive final payment. Information submitted is protected from public release in accordance with the Agency's confidentiality regulation, 40 CFR 2.201 et seq.

Burden Statement: EPA estimates that the annual hourly burden will be 165 hours based on the following: Each response will take approximately 40 minutes, and EPA closes out approximately 247 contracts per year. The annual dollar burden is estimated at $5,404.36 based on a combination of contractor employees providing the information. The total cost of the contractor-provided information is estimated to be $21.88 for the 40 minute period. Minimal operation and maintenance costs are expected for photocopying and postage.

Are There Changes in the Estimates From the Last Approval?

EPA estimates that the annual hourly burden for this collection will remain the same as reported in the previous information collection request because there has been no change in the information being collected and approximately the same number of contracts are closed out each year.

What Is the Next Step in the Process for All Four ICRs?

EPA will consider the comments received and amend the ICRs as appropriate. The final ICR packages will then be submitted to OMB for review and approval pursuant to 5 CFR 1320.12. At that time, EPA will issue Federal Register notices pursuant to 5 CFR 1320.5(a)(1)(iv) to announce the submission of the ICRs to OMB and the opportunity to submit additional comments to OMB. If you have any questions about these ICRs or the approval process, please contact the technical person listed under FOR FURTHER INFORMATION CONTACT.

Dated: November 6, 2008.
Elena deLeon,
Service Center Manager, Acquisition Policy and Training Service Center, Office of Acquisition Management.

[FR Doc. E8-26947 Filed 11-12-08; 8:45 am]

BILLING CODE 6560-50-P